DEPARTMENT OF HEALTH AND HUMAN SERVICES

National Institutes of Health

National Institute of Mental Health; Notice of Meeting

Notice is hereby given of a meeting of the Services Subcommittee of the Interagency Autism Coordinating Committee (IACC).

The purpose of the Services Subcommittee is to review the current state of services and supports for individuals with Autism Spectrum Disorder (ASD) and their families in order to improve these services. The Subcommittee meeting will be open to the public and the meeting will be conducted entirely as a conference call with Webinar.

Name of Committee: Interagency Autism Coordinating Committee (IACC).

Type of Meeting: Services Subcommittee Conference Call and Webinar.

Date: February 24th, 2009.

Time: 9 a.m. to 12 p.m. Eastern Time.

Agenda: To discuss comments on the ASD Services Roadmap and other issues related to ASD services.

Place: https://www1.gotomeeting.com/register/287708090

Conference Call: Dial: (888) 455-2920. Access code: 3857872.

Contact Person: Ms. Lina Perez, Office of Autism Research Coordination, Office of the Director, National Institute of Mental Health, NIH, 6001 Executive Boulevard, NSC, Bethesda, MD 20892-9669, 301-443-6040, iaccpublicinquiries@mail.nih.gov.

Please Note: The subcommittee meeting will be open to the public through a conference call phone number and a web presentation tool on the Internet. Individuals who participate using these electronic services and need special assistance, such as captioning of the conference call or other reasonable accommodations, should submit a request at least 10 days prior to the meeting.

Members of the public who participate using the conference call phone number will be able to listen to the meeting but will not be heard. There may be an opportunity for members of the public to submit written comments during the subcommittee meeting through the web presentation tool. Submitted comments will be reviewed after the meeting. If you experience any technical problems with the web presentation tool, please contact GoToWebinar at (800) 263-6317.

To use the Webinar, the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended)

This notice is being published less than 15 days prior to the meeting due to the scheduling limitations of the members.

Information about the IACC is available on the Web site: http://www.iacc.hhs.gov.

Dated: February 4, 2009.
Jennifer Spaeth,
Director, Office of Federal Advisory Committee Policy.

[FR Doc. E9-2826 Filed 2-10-09; 8:45 am]

BILLING CODE 4140-01-P